DEPARTMENT OF THE TREASURY

Internal Revenue Service

26 CFR Part 1

[REG-107872-99]

RIN 1545-AX18

Coordination of Sections 755 and 1060 Relating to Allocation of Basis Adjustments Among Partnership Assets; Hearing Cancellation

AGENCY: Internal Revenue Service (IRS), Treasury.

ACTION: Cancellation of notice of public hearing on proposed rulemaking.

SUMMARY: This document provides notice of cancellation of a public hearing on proposed regulations relating to the allocation of basis adjustments among partnership assets under section 755.

DATES: The public hearing originally scheduled for Wednesday, July 12, 2000, at 10 a.m., is cancelled.

FOR FURTHER INFORMATION CONTACT: LaNita Van Dyke of the Regulations Unit, Assistant Chief Counsel (Corporate), (202) 622-7190 (not a toll-free number).

SUPPLEMENTARY INFORMATION: A notice of proposed rulemaking and/or notice of public hearing that appeared in the Federal Register on Wednesday, April 5, 2000, (65 FR 17829), announced that a public hearing was scheduled for Wednesday, July 12, 2000, at 10 a.m., in room 2716, Internal Revenue Building, 1111 Constitution Avenue, NW., Washington, DC. The subject of the public hearing is proposed regulations under section 755 of the Internal Revenue Code. The public comment period for these proposed regulations expires on Wednesday, July 5, 2000. The outlines of topics to be addressed at the hearing were due on Wednesday, June 21, 2000.

The notice of proposed rulemaking and/or notice of public hearing, instructed those interested in testifying at the public hearing to submit a request to speak and an outline of the topics to be addressed. As of Tuesday, June 27, 2000, no one has requested to speak. Therefore, the public hearing scheduled for Wednesday, July 12, 2000, is cancelled.

Cynthia Grigsby,
Chief, Regulations Unit, Assistant Chief Counsel (Corporate).

[FR Doc. 00-16972 Filed 7-5-00; 8:45 am]

BILLING CODE 4830-01-U